FEDERAL COMMUNICATIONS COMMISSION

47 CFR Part 73

[DA 14-1610]

Radio Broadcasting Services; Various Locations

AGENCY: Federal Communications Commission.

ACTION: Final rule.

SUMMARY: In this document, the Audio Division amends the FM Table of Allotments to reinstate seven vacant FM allotments in various communities in Oregon, Missouri, Texas, and Washington. These vacant allotments have previously undergone notice and comment rule making, but they were inadvertently removed from the FM Table. Therefore, we find for good cause that further notice and comment are unnecessary.

DATES: Effective December 10, 2014.

FOR FURTHER INFORMATION CONTACT: Rolanda F. Smith, Media Bureau, (202) 418-2700.

SUPPLEMENTARY INFORMATION: This is a summary of the Report and Order, DA 14-1610, adopted November 5, 2014, and released November 6, 2014. The full text of this document is available for inspection and copying during normal business hours in the Commission's Reference Center, 445 12th Street SW., Washington, DC 20554. The complete text of this document may also be purchased from the Commission's duplicating contractor, Best Copy and Printing, Inc., 445 12th Street SW., Room CY-B402, Washington, DC 20054, telephone 1-800-378-3160 or www.BCPIWEB.com. The Commission will not send a copy of this Report and Order pursuant to the Congressional Review Act, see 5 U.S.C. 801(a)(1)(A), because the adopted rules are rules of particular applicability. This document does not contain information collection requirements subject to the Paperwork Reduction Act of 1995, Public Law 104-13. In addition, therefore, it does not contain any information collection burden “for small business concerns with fewer than 25 employees,” pursuant to the Small Business Paperwork Relief Act of 2002, Public Law 107-198, see 44 U.S.C. 3506(c)(4).

List of Subjects in 47 CFR part 73

Radio, Radio broadcasting.

Federal Communications Commission.
Nazifa Sawez,
Assistant Chief, Audio Division, Media Bureau.

For the reasons discussed in the preamble, the Federal Communications Commission amends 47 CFR part as follows:

PART 73—RADIO BROADCASTING SERVICES

1. The authority citation for part 73 continues to read as follows:

Authority: 47 U.S.C. 154, 303, 334, 336 and 339.

§ 73.202 [Amended]

2. Section 73.202(b), the Table of FM Allotments under Missouri is amended by adding Columbia, Channel 252C2.

3. Section 73.202(b), the Table of FM Allotments under Oregon is amended by adding Moro, Channel 283C2.

4. Section 73.202(b), the Table of FM Allotments under Texas is amended by adding Eden, Channel 294A; by adding O'Donnell, Channel 249A; by adding Premont, Channel 264C3; and by adding Roma, Channel 278A.

5. Section 73.202(b), the Table of FM Allotments under Washington is amended by adding Trout Lake, Channel 236A.

[FR Doc. 2014-28997 Filed 12-9-14; 8:45 am]

BILLING CODE 6712-01-P